DEPARTMENT OF HEALTH AND HUMAN SERVICES

Meeting of the National Vaccine Advisory Committee

AGENCY: Department of Health and Human Services, Office of the Secretary.

ACTION: Notice.

SUMMARY: As stipulated by the Federal Advisory Committee Act, the Department of Health and Human Services (DHHS) is hereby giving notice that the National Vaccine Advisory Committee (NVAC) will hold a meeting. The meeting is open to the public.

DATES: The meeting will be held on October 22, 2007, from 9 a.m. to 5 p.m., and on October 23, 2007, from 9 a.m. to 1:30 p.m.

ADDRESSES: Department of Health and Human Services; Hubert H. Humphrey Building, Room 800; 200 Independence Avenue, SW., Washington, DC 20201.

FOR FURTHER INFORMATION, CONTACT: Ms. Emma English, Program Analyst, National Vaccine Program Office, Department of Health and Human Services, Room 443-H Hubert H. Humphrey Building, 200 Independence Avenue, SW., Washington, DC 20201; (202) 690-5566, nvpo@hhs.gov.

SUPPLEMENTARY INFORMATION: Pursuant to section 2101 of the Public Service Act (42 U.S.C. section 300aa-1), the Secretary of Health and Human Services was mandated to establish the National Vaccine Program to achieve optimal prevention of human infectious diseases through immunization and to achieve optimal prevention against adverse reactions to vaccines. The National Vaccine Advisory Committee was established to provide advice and make recommendations to the Assistant Secretary for Health, as the Director of the National Vaccine Program, on matters related to the program's responsibilities.

Topics to be discussed at the meeting include adult and adolescent immunization, pandemic vaccine prioritization, vaccine financing, vaccine stockpiles, and other Departmental vaccine priorities. Subcommittee meetings will be held on the afternoon of October 22, 2007. A tentative agenda is currently available on the NVAC Web site: http://www.hhs.gov/nvpo/nvac.

In anticipation of a discussion regarding the Committee's draft document “Mandates for Adolescent Immunizations,” developed by the Adolescent Immunization Working Group, the Committee invites the public to submit written comments to the Executive Secretary, NVAC, through the contact person listed above. Written comment must be received by close of business on October 9, 2007. Additionally, members of the public will be given the opportunity to participate in the discussion on October 22, 2007. Public comment will be limited to five minutes per speaker. A copy of this draft document can be found at (http://www.hhs.gov/nvpo) or by contacting the contact person identified above.

Public attendance at the meeting is limited to space available. Individuals must provide a photo ID for entry into the Humphrey Building. Individuals who plan to attend and need special assistance, such as sign language interpretation or other reasonable accommodations, should notify the designated contact person. Members of the public will have the opportunity to provide comments at the meeting. Public comment will be limited to five minutes per speaker. Any members of the public who wish to have printed material distributed to NVAC members should submit materials to the Executive Secretary, NVAC, through the contact person listed above prior to close of business October 16, 2007. Pre-registration is required for both public attendance and comment. Any individual who wishes to attend the meeting and/or participate in the public comment session should e-mail nvpo@hhs.gov or call 202-690-5566.

Dated: September 19, 2007.
Bruce Gellin,
Director, National Vaccine Program Office.

[FR Doc. E7-18758 Filed 9-21-07; 8:45 am]

BILLING CODE 4150-44-P